ENVIRONMENTAL PROTECTION AGENCY

[EPA-HQ-OPPT-2025-0067; FRL-12475-08-OCSPP]

Certain New Chemicals; Receipt and Status Information for July-August 2025

AGENCY: Environmental Protection Agency (EPA).

ACTION: Notice of receipt and request for comment.

SUMMARY: This document announces the Agency's receipt of new chemical submissions under the Toxic Substances Control Act (TSCA), including information about the receipt of a Premanufacture Notice (PMN), Significant New Use Notice (SNUN), Microbial Commercial Activity Notice (MCAN), and an amendment to a previously submitted notice; test information; a biotechnology exemption application; an application for a test marketing exemption (TME); and a notice of commencement of manufacture (defined by statute to include import) (NOC) for a new chemical substance. This document also provides a periodic status report on the new chemical substances that are currently under EPA review or have recently concluded review. EPA is hereby providing notice of receipt of this information, as required by TSCA, and an opportunity to comment. This document covers the period from 8/1/2025 to 8/31/2025.

DATES: Comments must be received on or before December 31, 2025.

ADDRESSES: Submit your comments, identified by docket identification (ID) number EPA-HQ-OPPT-2025-0067 and the specific case number provided in this document for the chemical substance related to your comment, online at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT:

For technical information: Jim Rahai, Project Management and Operations Division (7407M), Office of Pollution Prevention and Toxics, Environmental Protection Agency, 1200 Pennsylvania Ave. NW, Washington, DC 20460-0001; telephone number: (202) 564-8593; email address: rahai.jim@epa.gov.

For general information: The TSCA-Hotline, ABVI-Goodwill, 422 South Clinton Ave. Rochester, NY 14620; telephone number: (202) 554-1404; email address: TSCA-Hotline@epa.gov.

SUPPLEMENTARY INFORMATION:

I. Executive Summary

A. Does this action apply to me?

This action provides information that is directed to the public in general.

B. What is the Agency's authority for taking this action?

EPA is publishing this document in the Federal Register as required by sections 5 of the Toxic Substances Control Act (TSCA), 15 U.S.C. 2601 et seq., and corresponding EPA regulations.

Under TSCA, a chemical substance may be either an “existing” chemical substance or a “new” chemical substance, see https://www.epa.gov/chemicals-under-tsca. Any chemical substance that is not on EPA's TSCA Inventory of Chemical Substances (TSCA Inventory) is classified as a “new chemical substance,” while a chemical substance that is listed on the TSCA Inventory is classified as an “existing chemical substance.” See TSCA section 3(2) and (11). For more information about the TSCA Inventory, see https://www.epa.gov/inventory.

Any person who intends to manufacture (including import) a new chemical substance for a non-exempt commercial purpose, or to manufacture or process a chemical substance in a non-exempt manner for a use that EPA has determined is a significant new use, is required by TSCA section 5 to provide EPA with a PMN, MCAN, or SNUN, as appropriate, before initiating the activity. EPA will review the notice, make a risk determination on the new chemical substance or significant new use, and take appropriate action as described in TSCA section 5(a)(3).

TSCA section 5(h)(1) authorizes EPA to allow persons, upon application and under appropriate restrictions, to manufacture a new chemical substance, or manufacture or process a chemical substance subject to a significant new use rule (SNUR) issued under TSCA section 5(a)(2), for “test marketing” purposes, upon a showing that the manufacture, processing, distribution in commerce, use, and disposal of the chemical substances will not present an unreasonable risk of injury to health or the environment. This is referred to as a test marketing exemption, or TME.

Premanufacture notification procedures for review of certain new microbial products of biotechnology are established in 40 CFR part 725. These pertain to MCANs and biotechnology exemptions, including TSCA experimental release applications (TERAs), TMEs for microorganisms, and Tier I and Tier II exemptions.

C. What action is the Agency taking?

This document provides notice of receipt and status reports for the covered period and certain submissions under TSCA section 5 and provides an opportunity to comment on this information. The Agency is providing information about the receipt of PMNs, SNUNs, MCANs, and amendments to a previously submitted notice; test information; biotechnology exemption applications under 40 CFR part 725; TME applications; NOCs for new chemical substances; and a periodic status report on chemical substances that are currently under EPA review or have recently concluded review.

D. What should I consider as I prepare my comments for EPA?

1. Submitting CBI. Do not submit CBI to EPA through https://www.regulations.gov or email. If you wish to include CBI in your comment, please follow the instructions at https://www.epa.gov/dockets/commenting-epa-dockets#rules and clearly mark the information that you claim to be CBI. In addition to one complete version of the comment that includes CBI, a copy of the comment without CBI must be submitted for inclusion in the public docket. Information marked as CBI will not be disclosed except in accordance with procedures set forth in 40 CFR parts 2 and 703.

2. Tips for preparing your comments. When preparing and submitting your comments, see the commenting tips at https://www.epa.gov/dockets/commenting-epa-dockets.

II. Background

A. What information is being provided in this document?

The tables in this document provide the following information on the TSCA section 5 submissions received by EPA during this period and determined to be complete consistent with 40 CFR 720.70(a).

• Case number. The EPA number assigned to the TSCA section 5 submissions. Please note that a case number may be listed more than once in the table when the submission involves a subsequent amendment.

• Chemical substance. Name of the chemical substance, or generic name if the specific name is claimed as CBI.

• Manufacturer. Name of the submitting manufacturer, to the extent that such information is not subject to a CBI claim. The term “manufacturer” is defined by statute to include importer.

• Use(s). Potential uses identified by the manufacturer.

• Received. Date the submission was received by EPA.

• Commencement. Date of commencement provided by the submitter in the NOC.

• Test information. For test information received, the type of test information submitted to EPA based on the attachment type and subtype data selected by the submitter.

B. What do the acronyms mean that are used in the tables?

As used in each of the tables, the following explanations apply:

• (S) indicates that the information in the table is the specific information provided by the submitter.

• (G) indicates that the information in the table is generic information because the specific information provided by the submitter was claimed as CBI.

C. How can I access other information about TSCA section 5 submissions?

EPA provides information on its website about cases reviewed under TSCA section 5, including the PMNs, SNUNs, MCANs, and exemption applications received; the date of receipt; the final EPA determination on the submission; and the effective date of EPA's determination. See https://www.epa.gov/new-chemicals-under-toxic-substances-control-act-tsca/pre-manufacture-notices. In addition, information EPA receives about chemical substances under TSCA, including non-CBI new chemical submissions, can be accessed in ChemView at https://chemview.epa.gov/.

III. Receipt Reports

Table 1 provides non-CBI information for the PMNs, SNUNs and MCANs received by EPA that have passed an initial screening and determined to be complete consistent with 40 CFR 720.70(a) during this period.

Table 1—PMN/SNUN/MCANs Received and Under Review
Case No. | Received date | Manufacturer | Use | Chemical substance
J-25-0014 | 08/12/2025 | CBI | (G) Manufacture of an alcohol | (G) Modified Yeast, with chromosomal modifications to improve fermentation characteristics.
J-25-0014A | 08/27/2025 | CBI | (G) Manufacture of an alcohol | (G) Modified Yeast, with chromosomal modifications to improve fermentation characteristics.
P-23-0140 | 08/01/2025 | CBI | (G) Additive for consumer and commercial products | (G) Polysaccharide, (hydroxytrialkylammonio)alkyl ether, chloride.
P-23-0162 | 08/07/2025 | CBI | (S) Transportation fuels, Chemical Feedstock, Fuel additive | (G) Alkane (glyceridic), hydrotreated and isomerized.
P-24-0007 | 08/14/2025 | Kenrich Petrochemicals, Inc | (S) Use as a dispersant for powders, as an adhesion promoter in adhesives and sealants, all forms KR PTOA, CAPOW KR PTOA | (S) Titanium branched and linear C16-18 and C18-unsatd. fatty acids iso-Pr alc. complexes.
P-24-0093 | 07/31/2025 | Evonik Corporation | (S) Surfactant in laundry, and manual/hand dish detergent, in hard surface cleaner | (G) Rhamnolipids, modified pseudomonas-fermented, from dextrose, salts.
P-24-0094 | 07/31/2025 | Evonik Corporation | (S) Surfactant in laundry, and manual/hand dish detergent, in hard surface cleaner | (G) Rhamnolipids, modified pseudomonas-fermented, from dextrose, salts.
P-24-0095 | 07/31/2025 | Evonik Corporation | (S) Surfactant in laundry, and manual/hand dish detergent, in hard surface cleaner | (G) Rhamnolipids, modified pseudomonas-fermented, from dextrose, salts.
P-24-0096 | 07/31/2025 | Evonik Corporation | (S) Surfactant in laundry, and manual/hand dish detergent, in hard surface cleaner | (G) Rhamnolipids, modified pseudomonas-fermented, from dextrose, salts.
P-24-0116 | 08/15/2025 | CBI | (G) For use in coatings for metal parts | (G) Phenol, 4,4-(1-alkylidene) bis-, polymer with 2-(chloromethyl) oxirane, 4-alkylphenyl ether, reaction products with alkylpolyamine and 2-(alkylamino)alkanol, hydrolyzed, alkanesulfonates (salts).
P-24-0117 | 08/15/2025 | CBI | (G) For use in coatings for metal parts | (G) Alkanoic acid, compds. with hydrolyzed bisphenol-epichlorohydrin polymer 4-alkylphenyl ether- alkylpolyamine and 2-(alkylamino)alkanol reaction products.
P-24-0118 | 08/15/2025 | CBI | (G) For use in coatings for metal parts | (G) Alkanoic acid, compds. with [(aminoalkyl)imino] bis[alkanol]-bisphenol-epichlorohydrin polymer 4-alkylphenyl ether-2-(alkylamino)alkanol reaction products.
P-24-0119 | 08/15/2025 | CBI | (G) For use in coatings for metal parts | (G) Amidosulfonic acid, compds. with [(aminoalkyl)imino] bis[alkanol]-bisphenol-epichlorohydrin polymer 4-alkylphenyl ether-2-(alkylamino)alkanol reaction products.
P-24-0120 | 08/15/2025 | CBI | (G) For use in coatings for metal parts | (G) Alkanoic acid, compds. with hydrolyzed bisphenol-monoalkylamine-epichlorohydrin polymer 4-alkylphenyl ether- alkylpolyamine and 2-(alkylamino)alkanol reaction products.
P-24-0121 | 08/15/2025 | CBI | (G) For use in coatings for metal parts | (G) Phenol, 4,4-(1-alkylidene) bis-, polymer with 2-(chloromethyl) oxirane and monoalkanamine, 4-alkylphenyl ether, reaction products with alkylpolyamine and 2-(alkylamino)alkanol, hydrolyzed, alkanesulfonates (salts).
P-24-0155 | 08/06/2025 | CBI | (G) Raw material | (G) Alkanoic acid, [(alkylthio)substitutedalkyl] thio]-,.
P-24-0173 | 08/06/2025 | CBI | (G) For making air pollutant control parts in automobiles | (G) Rare earth doped zirconium oxide.
P-24-0174 | 08/06/2025 | CBI | (G) Making air pollutants control parts in automobiles | (G) Rare earth doped zirconium oxide.
P-24-0175 | 08/06/2025 | CBI | (G) Air pollutants control parts in automobiles | (G) Rare earth doped zirconium oxide.
P-24-0176 | 08/06/2025 | CBI | (G) Making of air pollutants control parts in automobiles | (G) Rare earth doped zirconium oxide.
P-24-0177 | 08/06/2025 | CBI | (G) Air pollutants control parts in automobiles | (G) Rare earth doped zirconium oxide.
P-24-0179 | 08/06/2025 | CBI | (G) Component in batteries | (G) Aluminum- and metal-doped cobalt metal nickel oxide.
P-24-0180 | 08/06/2025 | CBI | (G) Component in batteries | (G) Aluminum- and metal- and metal-doped cobalt metal nickel oxide.
P-24-0181 | 08/06/2025 | CBI | (G) Component in batteries | (G) Metal- and metal-doped cobalt metal metal nickel oxide.
P-24-0182 | 08/26/2025 | CBI | (G) Chemical precursor | (G) Cobalt metal nickel compound.
P-25-0005 | 08/15/2025 | CBI | (G) For use in coatings for metal parts | (G) Cashew, nutshell liq., polymer with [(aminoalkyl)imino] bis[alkanol], bisphenol and epichlorohydrin, reaction products with dialkanolamine, alkylcarboxylates (salts) alkanesulfonates (salts).
P-25-0006 | 08/15/2025 | CBI | (G) For use in coatings for metal parts | (G) Phenol, 4,4-(1-alkylidene) bis-, polymer with [(aminoalkyl)imino] bis[alkanol] and 2-(chloromethyl) oxirane, 3-alkyloxy-2-hydroxypropyl ethers, reaction products with dialkanolamine, alkylcarboxylates (salts) alkanesulfonates (salts).
P-25-0007 | 08/15/2025 | CBI | (G) For use in coatings for metal parts | (G) Phenol, 4,4-(1-alkylidene) bis-, polymer with [(aminoalkyl)imino] bis[alkanol] and 2-(chloromethyl) oxirane, 4-alkylphenyl ethers, reaction products with dialkanolamine, alkylcarboxylates (salts) alkanesulfonates (salts).
P-25-0008 | 08/15/2025 | CBI | (G) For use in coatings for metal parts | (G) Benzenediol, polymer with [(aminoalkyl)imino] bis[alkanol], 2- (chloromethyl)oxirane and 4,4-(1-alkylidene) bis[phenol], 4-alkylphenyl ethers, reaction products with dialkanolamine, alkylcarboxylates (salts) alkanesulfonates (salts).
P-25-0009 | 08/15/2025 | CBI | (G) For use in coatings for metal parts | (G) Cashew, nutshell liq., polymer with [(aminoalkyl)imino] bis[alkanol], bisphenol, epichlorohydrin and benzenediol, reaction products with dialkanolamine, alkylcarboxylates (salts) alkanesulfonates (salts).
P-25-0010 | 08/15/2025 | CBI | (G) For use in coatings for metal parts | (G) Benzenediol, polymer with [(aminoalkyl)imino] bis[alkanol], 2- (chloromethyl)oxirane and 4,4-(1-alkylidene) bis[phenol], 3-alkyloxy-2-hydroxypropyl ethers, reaction products with dialkanolamine, alkylcarboxylates (salts) alkanesulfonates (salts).
P-25-0090 | 08/19/2025 | CBI | (G) Monomer for use in UV/EB technology | (G) Carbamic acid, N,N′-(trialkylalkanidyl)bis-, bis(propenyloxy)alkyl ester.
P-25-0090 | 08/20/2025 | CBI | (G) Monomer for use in UV/EB technology | (G) Carbamic acid, N,N′-(trialkylalkanidyl)bis-, bis(propenyloxy)alkyl ester.
P-25-0091 | 08/19/2025 | CBI | (G) Monomer for use in UV/EB technology | (G) Carbamic acid, N,N′-(trialkylalkanidyl)bis-, bis(propenyloxy)alkyl ester.
P-25-0091 | 08/20/2025 | CBI | (G) Monomer for use in UV/EB technology | (G) Carbamic acid, N,N′-(trialkylalkanidyl)bis-, bis(propenyloxy)alkyl ester.
P-25-0115 | 08/18/2025 | CBI | (G) Deposition material for use in electronics industry and non-electronics industry | (G) Silylamine.
P-25-0123 | 08/08/2025 | CBI | (G) Ink component, Ingredient in ink | (G) Butanamide, 2,2′-[(dihalo[1,1′-biphenyl]-4,4′-diyl) bis(2,1-diazenediyl)] bis[3-oxo, N,N′-bis(substituted heteropolycyclic and alkyl carbomonocyclic) derivs.
P-25-0131 | 08/06/2025 | Osmo Labs, PBC | (S) Non-Spray Personal Care Products, Categories include fine fragrances, shower gel, shampoo, hair styling products, body lotion, face cream, hand cream, liquid foundation, and nonspray deodorant, laundry (fabric softeners, powdered and liquid detergents, dryer sheets, scent boosters), surface and general household cleaning (all-purpose cleaners, cleaning wipes, toilet bowl cleaners, powdered cleaners, floor cleaners), air and odor control (liquid electrical fresheners, gel air fresheners, scented candles, trash can deodorizers, carpet deodorizers), other (scented draw liners, pet product deodorizers) | (G) Aryl ether aldehyde.
P-25-0132 | 07/31/2025 | CBI | (G) An ingredient used in the manufacture of photoresist | (G) Alkenoic acid, alkyl-, alkyl-carbopolycyclic alkyl ester, polymer with oxo- (trihalo alkoxy) alkyl alkyl alkenoate and oxo-[trihalo-(trihaloalkyl)alkoxy] alkyl alkyl alkenoate.
P-25-0133 | 07/31/2025 | CBI | (G) Component in inks | (G) Fatty acids, dimers, polymers with alkenoic acid and polyol.
P-25-0134 | 08/06/2025 | Osmo Labs, PBC | (S) Categories include fine fragrances, shower gel, shampoo, hair styling products, body lotion, face cream, hand cream, liquid foundation, and non-spray deodorant, laundry (fabric softeners, powdered and liquid detergents, dryer sheets, scent boosters), surface and general household cleaning (all-purpose cleaners, cleaning wipes, toilet bowl cleaners, powdered cleaners, floor cleaners), air and odor control (liquid electrical fresheners, gel air fresheners, scented candles, trash can deodorizers, carpet deodorizers), other (scented draw liners, pet product deodorizers) | (G) Aryl alkynoic ethyl ester.
P-25-0135 | 08/04/2025 | CBI | (G) Used as a component in battery manufacturing | (G) Metal- and metal- and metal-doped cobalt lithium manganese nickel oxide.
P-25-0136 | 08/04/2025 | CBI | (G) Used as a component in battery manufacturing | (G) Metal- and metal-doped cobalt lithium manganese nickel oxide.
P-25-0137 | 08/06/2025 | CBI | (G) Substance for the use in manufacturing of battery components | (G) Cobalt lithium manganese nickel oxide, metals.
P-25-0138 | 08/18/2025 | CBI | (G) Polymer plastic | (G) Carbohydrates, modified microorganism- fermented Polyhydroxyalkanoate.
P-25-0139 | 08/18/2025 | CBI | (G) Polymer plastic | (G) Carbohydrates, modified microorganism- fermented Polyhydroxyalkanoate.
P-25-0140 | 08/18/2025 | CBI | (G) Polymer plastic | (G) Carbohydrates, modified microorganism- fermented Polyhydroxyalkanoate.
P-25-0141 | 08/06/2025 | Osmo Labs, PBC | (S) Categories include fine fragrances, shower gel, shampoo, hair styling products, body lotion, face cream, hand cream, liquid foundation, and non-spray deodorant, laundry (fabric softeners, powdered and liquid detergents, dryer sheets, scent boosters), surface and general household cleaning (all-purpose cleaners, cleaning wipes, toilet bowl cleaners, powdered cleaners, floor cleaners), air and odor control (liquid electrical fresheners, gel air fresheners, scented candles, trash can deodorizers, carpet deodorizers), other (scented draw liners, pet product deodorizers) | (G) Heteroaromatic alkyl ester.
P-25-0142 | 08/21/2025 | CBI | (G) Industrial intermediate | (G) Propenoic acid, methyl-, [bis[[dimethyl[[-trimethyl-bis[(trimethylsilyl)oxy]- disiloxanyl] ethyl] silyl] oxy] -dimethyl-[[trimethyl-bis[(trimethylsilyl)oxy]-disiloxaneyl] ethyl]-disiloxaneyl] propyl ester.
P-25-0142 | 08/27/2025 | CBI | (G) Industrial intermediate | (G) Propenoic acid, methyl-, [bis[[dimethyl[[-trimethyl-bis[(trimethylsilyl)oxy]- disiloxanyl] ethyl] silyl] oxy] -dimethyl-[[trimethyl-bis[(trimethylsilyl)oxy]-disiloxaneyl] ethyl]-disiloxaneyl] propyl ester.
SN-25-0005 | 08/18/2025 | CBI | (G) Electronic component manufacturing | (S) 2-Butene, 1,1,1,4,4,4-hexafluoro-, (2Z)-.
SN-25-0009 | 08/11/2025 | Clariant Corporation | (S) Selectivity improver for catalysts used in the production of polyolefins | (S) Heptane, 3,3-bis(methoxymethyl)-2,6-dimethyl-.

Table 2 provides non-CBI information on the NOCs received by EPA that have passed an initial screening during this period.

Table 2—NOCs Received and Under Review
Case No. | Received date | Commencement date | Chemical substance
P-14-0624 | 08/14/2025 | 07/25/2025 | (G) Cyclic amine, polymer with haloalkyloxirane and. alpha. -hydro-. omega. -hydroxypoly(oxy-1,2-alkyldiyl), salt.
P-18-0150 | 08/15/2025 | 08/06/2025 | (S) Cyclohexanamine, N,N-dimethyl-, compds. with 3-(cyclohexylamino)-1-propanesulfonic acid-blocked 5-isocyanato-1-(isocyanatomethyl)-1,3,3-trimethylcyclohexane homopolymer.
P-18-0182 | 08/14/2025 | 09/29/2024 | (S) Multiwalled carbon nanotubes grown perpendicularly on an aluminum foil substrate using Fe catalyst.
P-21-0092 | 08/08/2025 | 08/06/2025 | (G) 2-Propenoic acid, (polyhydro-1,3-dioxo-2H-isoindol-2-yl) alkyl ester.
P-22-0163 | 08/14/2025 | 08/12/2025 | (S) Multiwalled carbon nanotubes.
P-23-0037 | 08/05/2025 | 07/17/2025 | (G) Monoaromatic cyclic alkylene sulfonium fluoroalkyl sulfonic acid salt.
P-23-0093 | 08/06/2025 | 07/20/2025 | (G) Aromatic Dibenz thiophenium fluoroalkyl carbopolycycle sulfonic acid salt.
P-24-0110 | 08/15/2025 | 07/23/2025 | (G) Alkyl fatty acids, polymers with substituted heteropolycyclic, substituted carbomonocycle, carbomonocyclic dicarboxylic acid and trisubstituted alkyl, substituted alkyl alkenoate-blocked, polymers with substituted alkene, substituted bis alkylalkanenitrile-initiated heteromonocyclic alkenoate-substituted alkanoic acid-alkyl alkenoate polymer alkenoate, heteromonocyclic alkenoate, substituted alkyl alkenoate, alkyl alkenoate, alkyl alkenoate, alkenoic acid and substituted carbomonocycle, alkyl substituted alkyl alkanoate initiated,- and substituted bis alkylalkanenitrile-initiated.
P-25-0016 | 08/06/2025 | 07/20/2025 | (G) Trihaloaromatic iodonium dicyclo salt with polyhaloalkyl carbomonocycle hetero acid.

Table 3 provides non-CBI information on the test information that has been received by EPA that have passed an initial screening during this period.

Table 3—Test Information Received
Case No. | Received date | Type of test information | Chemical Substance
P-14-0712 | 08/15/2025 | Polychlorinated Dibenzodioxins and Polychlorinated Dibenzofurans Testing | (S) Waste plastics, pyrolyzed, C5-55 fraction.
P-18-0016 | 07/29/2025 | Partition Coefficient (1-Octanol/Water): Slow-Stirring Method (OECD Test Guideline 123) | (G) Aromatic sulfonium tricyclo fluoroalkyl sulfonic acid salt.
P-20-0042 | 07/29/2025 | Partition Coefficient (1-Octanol/Water): Slow-Stirring Method (OECD Test Guideline 123) | (G) Sulfonium, trisaryl-, 7,7-dialkyl-2-heteropolycyclic -1-alkanesulfonate (1:1).
P-21-0165 | 08/12/2025 | 96-hr Fish Imbalance Test using larvae of the Eastern Rainbowfish Melanotaenia splendida (ESA SOP 117) | (S) Glucopyranose, oligomeric, C1016alkyl glycosides, 3(3,4dicarboxy3 hydroxy1oxobutoxy) 2hydroxypropyl ethers, sodium salts.
P-22-0055 | 07/29/2025 | Partition Coefficient (1-Octanol/Water): Slow-Stirring Method (OECD Test Guideline 123) | (G) Aromatic sulfonium tricyclo fluoroalkyl sulfonic acid salt.
P-23-0037 | 07/29/2025 | Partition Coefficient (1-Octanol/Water): Slow-Stirring Method (OECD Test Guideline 123) | (G) Monoaromatic cyclic alkylene sulfonium fluoroalkyl sulfonic acid salt.
P-23-0044 | 07/29/2025 | Partition Coefficient (1-Octanol/Water): Slow-Stirring Method (OECD Test Guideline 123) | (G) Monoaromatic cyclic alkylene sulfonium fluoroalkyl sulfonic acid salt.
P-23-0080 | 07/29/2025 | Partition Coefficient (1-Octanol/Water): Slow-Stirring Method (OECD Test Guideline 123) | (G) Aromatic sulfonium tricyclo fluoroalkyl sulfonic acid salt.
P-23-0093 | 07/29/2025 | Partition Coefficient (1-Octanol/Water): Slow-Stirring Method (OECD Test Guideline 123) | (G) Aromatic Dibenz thiophenium fluoroalkyl carbopolycycle sulfonic acid salt.
P-24-0160 | 07/29/2025 | Partition Coefficient (1-Octanol/Water): Slow-Stirring Method (OECD Test Guideline 123) | (G) Iodonium, bis (dialkyl carbomonocycle) salt with alkyl carbomonocycle hetero acid.
P-24-0190 | 07/29/2025 | Partition Coefficient (1-Octanol/Water): Slow-Stirring Method (OECD Test Guideline 123) | (G) Aromatic sulfonium tricyclo salt with alkyl carbomonocycle hetero acid.
P-25-0016 | 07/29/2025 | Partition Coefficient (1-Octanol/Water): Slow-Stirring Method (OECD Test Guideline 123) | (G) Tri haloaromatic iodonium dicyclo salt with polyhaloalkyl carbomonocycle hetero acid.
P-25-0097 | 07/29/2025 | Partition Coefficient (1-Octanol/Water): Slow-Stirring Method (OECD Test Guideline 123) | (G) Aromatic sulfonium tricyclo salt with dicycloalkyl carbomonocycle hetero acid.
P-25-0100 | 07/29/2025 | Partition Coefficient (1-Octanol/Water): Slow-Stirring Method (OECD Test Guideline 123) | (G) Aromatic sulfonium tricyclo salt with alkyl carbomonocycle hetero acid.
P-25-0102 | 07/29/2025 | Partition Coefficient (1-Octanol/Water): Slow-Stirring Method (OECD Test Guideline 123) | (G) Carboheterocyclic aromatic sulfonium salt with dicycloalkyl carbomonocycle hetero acid.
P-25-0111 | 07/29/2025 | Partition Coefficient (1-Octanol/Water): Slow-Stirring Method (OECD Test Guideline 123) | (G) Haloaromatic iodonium dicyclo salt with polyfluoroalkyl carbomonocycle hetero acid.
P-25-0112 | 07/29/2025 | Partition Coefficient (1-Octanol/Water): Slow-Stirring Method (OECD Test Guideline 123) | (G) Haloaromatic iodonium dicyclo salt with halogenated hydroxyaryl carboxylic acid.

IV. Status Reports

Information about the TSCA section 5 PMNs, SNUNs, MCANs, and exemption applications received, including the date of receipt, the status of EPA's review, the final EPA determination, and the effective date of EPA's determination, is available online at: https://www.epa.gov/reviewing-new-chemicals-under-toxic-substances-control-act-tsca/status-pre-manufacture-notices.

Authority: 15 U.S.C. 2601 et seq.

Dated: November 25, 2025.
Mary Elissa Reaves,
Director, Office of Pollution Prevention and Toxics.

[FR Doc. 2025-21674 Filed 11-28-25; 8:45 am]

BILLING CODE 6560-50-P